DEPARTMENT OF HOMELAND SECURITY

Federal Emergency Management Agency

[Docket ID FEMA-2025-0013; OMB No. 1660-0086]

Agency Information Collection Activities: Proposed Collection, Comment Request; National Flood Insurance Program—Ask the Advocate Web Form

AGENCY: Federal Emergency Management Agency (FEMA), Department of Homeland Security (DHS).

ACTION: Notice; correction.

SUMMARY: On Friday, June 6, 2025, FEMA published in the Federal Register a 60-Day notice of revision and request for comments for an information collection concerning the Office of the Flood Insurance Advocate's (OFIA) Ask the Advocate web form and the removal of two instruments that are no longer needed. This notice provides a correction to this information to be used in lieu of the information published June 6, 2025.

DATES: This correction is effective July 31, 2025.

ADDRESSES: To avoid duplicate submissions to the docket, please submit comments at http://www.regulations.gov under Docket ID FEMA-2025-0013. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Joe Cecil, Advocate Representative Team Lead, Office of the Flood Insurance Advocate, National Flood Insurance Program, Federal Emergency Management Agency, at (202) 701-3475 or Joseph.Cecil@fema.dhs.gov. You may contact the Information Management Division for copies of the proposed collection of information at email address: FEMA-Information-Collections-Management@fema.dhs.gov.

SUPPLEMENTARY INFORMATION: In FR Doc. 2025-10281, beginning on page 24150 in the Federal Register of Friday, June 6, 2025, the following correction is made: On page 24150, in the third column, in the FOR FURTHER INFORMATION CONTACT, the phone number “(202) 701-3465” is corrected to read “(202) 701-3475”.

(Authority: 42 U.S.C. 4033.)

Russell R. Bard,
Acting Director for Information Management, Office of the Chief Administrative Officer, Mission Support, Federal Emergency Management Agency, Department of Homeland Security.

[FR Doc. 2025-14504 Filed 7-30-25; 8:45 am]

BILLING CODE 9111-52-P